DEPARTMENT OF TRANSPORTATION

Federal Motor Carrier Safety Administration

[Docket Nos. FMCSA-2016-0102 and FMCSA-2022-0134]

Property Broker Listening Session; Public Meeting

AGENCY: Federal Motor Carrier Safety Administration (FMCSA), Department of Transportation (DOT).

ACTION: Notice of public listening session.

SUMMARY: FMCSA announces that it will host a listening session pertaining to property brokers. Specifically, the Agency would like to hear from members of the public on two matters relating to the regulation of property brokers: (1) a January 5, 2023 notice of proposed rulemaking (NPRM) proposing to regulate five separate areas of broker (and freight forwarder) financial responsibility: assets readily available; immediate suspension of broker/freight forwarder operating authority; surety or trust responsibilities in cases of broker/freight forwarder financial failure or insolvency; enforcement authority; and entities eligible to provide trust funds for form BMC-85 trust fund filings; and (2) the November 16, 2022, interim guidance regarding FMCSA's interpretation of the definitions of broker and bona fide agents as it relates to all brokers of transportation by motor vehicle. This FMCSA-hosted listening session will be open to all interested persons and will take place concurrently with the Mid America Trucking Show (MATS) in Louisville, KY. All comments will be transcribed and placed in the public dockets for both regulatory actions. Individuals with diverse experiences and perspectives are encouraged to attend.

DATES: The public listening session will be held on Friday, March 31, 2023, from 10 a.m. to 11 a.m. ET. The session will be held in person. The listening session may end early if all participants wishing to express their views have done so.

Public Comment: The in-person session will allow members of the public to make brief statements to the panel.

ADDRESSES: The meeting will be held at the Kentucky Expo Center, 937 Phillips Lane, Louisville, KY 40209, in Room B104. Please arrive early to allow time to check in and arrive at the room. Attendees should preregister using this link: https://www.eventbrite.com/e/fmcsa-session-2-broker-regulatory-session-tickets-549535173497.

FOR FURTHER INFORMATION CONTACT: Mr. Jeffrey L. Secrist, Chief, Registration, Licensing, and Insurance Division, Office of Registration, FMCSA, 1200 New Jersey Avenue SE, Washington, DC 20590-0001; (202) 385-2367; Jeff.Secrist@dot.gov.

Services for Individuals with Disabilities: FMCSA is committed to providing equal access to the listening session. For accommodations for persons with disabilities, please email FMCSA-PIO@dot.gov at least 2 weeks in advance of the meeting to allow time to make appropriate arrangements.

SUPPLEMENTARY INFORMATION:

I. Public Participation and Request for Comments

FMCSA encourages participation in the session and providing of comments. Members of the public may submit written comments to the public dockets for these actions using any of the following methods:

A. Submitting Comments

If you submit a comment, please include the appropriate docket number for the topic you are commenting on. The docket number for the NPRM regarding broker and freight forwarder financial responsibility requirements is FMCSA-2016-0102. The docket number for the interim guidance on definitions of broker and bona fide agents is FMCSA-2022-0134. You may submit your comments and material online or by mail or hand delivery, but please use only one of these methods. FMCSA recommends that you include your name, email address, or a phone number in the body of your document.

To submit your comment online, go to www.regulations.gov. Insert the docket number (“FMCSA-2016-0102” for the NPRM or “FMCSA-2022-0134” for the interim guidance) in the keyword box and click “Search.” Choose the document you want to comment on and click the “Comment” button. Follow the online instructions for submitting comments.

FMCSA will consider all comments and material received during the comment periods for these dockets.

B. Viewing Comments and Documents

To view comments, go to www.regulations.gov and insert the docket number (“FMCSA-2016-0102” for the NPRM or “FMCSA-2022-0134” for the interim guidance) in the keyword box and click “Search.” Choose the NPRM or the interim guidance and click “Browse Comments.” If you have questions on viewing or submitting material to the docket, contact Dockets Operations at (202) 366-9826. Business hours are from 8:00 a.m. to 4:30 p.m. ET, Monday through Friday, except Federal holidays. You may also submit or view docket entries in person or by mail: U.S. Department of Transportation, 1200 New Jersey Avenue SE, West Building, Ground Floor, Room W12-140, Washington, DC 20590-0001. To be sure someone is there to help you, please call (202) 366-9317 or (202) 366-9826 before visiting Dockets Operations.

C. Privacy Act

In accordance with 49 U.S.C. 13301(a) and 5 U.S.C. 553(c), DOT solicits comments from the public to better inform its rulemaking process. DOT posts these comments, without edit, including any personal information the commenter provides, to www.regulations.gov, as described in the system of records notice (DOT/ALL-14 FDMS), which can be reviewed at https://www.transportation.gov/individuals/privacy/privacy-act-system-records-notices, the comments are searchable by the name of the submitter.

II. Background

FMCSA believes it is in the public interest to host a public listening session to receive additional comments on matters within FMCSA's jurisdiction, including those relating to regulation of property brokers, freight forwarders, and dispatch services. Accordingly, FMCSA is announcing this listening session, being held at 10:00 a.m. on March 31, 2023, in Louisville, KY, concurrently with the 2023 MATS conference. FMCSA's listening session is open to the public and a link to register to attend is available in the ADDRESSES section above. Registration with the MATS conference is not required to attend FMCSA's listening session.

FMCSA is currently accepting comments on a NPRM concerning the implementation of certain requirements under the Moving Ahead for Progress in the 21st Century Act (MAP-21) (88 FR 830, Docket FMCSA-2016-0102). Previously, FMCSA implemented the MAP-21 requirement to increase the financial security amounts for brokers of household goods and other property brokers and established new financial security requirements for freight forwarders. The Agency is now proposing regulations in five separate areas pertaining to broker/freight forwarder financial responsibility: assets readily available; immediate suspension of broker/freight forwarder operating authority; surety or trust responsibilities in cases of broker/freight forwarder financial failure or insolvency; enforcement authority; and entities eligible to provide trust funds for form BMC-85 trust fund filings. By a separate Federal Register notice, FMCSA is extending the comment period for this NPRM from March 6, 2023, to April 6, 2023.

In addition, FMCSA is also accepting further comments on the interim guidance issued on November 17, 2022, regarding FMCSA's interpretation of the definitions of broker and bona fide agents as it relates to all brokers of transportation by motor vehicle (87 FR 68635, FMCSA-2022-0134). Although the interim guidance took effect immediately upon publication in the Federal Register, FMCSA is seeking additional comments and will issue final guidance by the statutory deadline of June 16, 2023. By a separate Federal Register notice, FMCSA is reopening the comment period for the interim guidance, which closed on January 17, 2023. Comments will now be accepted from March 31, 2023, until April 6, 2023.

III. Meeting Participation

The listening sessions are open to the public. Speakers' remarks will be limited to 3 minutes each.

Robin Hutchinson,
Administrator.

[FR Doc. 2023-04720 Filed 3-7-23; 8:45 am]

BILLING CODE 4910-EX-P